DEPARTMENT OF THE INTERIOR

Fish and Wildlife Service

[FWS-R8-ES-2019-N015; FXES11140800000-190-FF08EVEN00]

Draft Environmental Assessment and Draft General Conservation Plan for Oil and Gas Activities in Santa Barbara County, California

AGENCY: Fish and Wildlife Service, Interior.

ACTION: Notice of availability; request for comments.

SUMMARY: We, the U.S. Fish and Wildlife Service (Service), announce the availability of a draft General Conservation Plan (GCP), as well as the associated draft environmental assessment (EA), for oil and gas activities in Santa Barbara County. The Service developed the GCP in accordance with the Endangered Species Act to provide a streamlined mechanism for proponents engaged in oil and gas activities to meet statutory and regulatory requirements while promoting conservation of the Santa Barbara County distinct population segment of the California tiger salamander, California red-legged frog, and Lompoc yerba santa. The Service prepared the draft EA in accordance with the National Environmental Policy Act to evaluate the potential effects to the natural and human environment resulting from issuing permits under the GCP. We invite public comment on these documents.

DATES: Written comments should be received on or before April 6, 2020.

ADDRESSES: Obtaining documents: You may download a copy of the draft GCP and draft EA at http://www.fws.gov/ventura/, or you may request copies of the documents from the Ventura Fish and Wildlife Office by U.S. mail (address below) or by phone (see FOR FURTHER INFORMATION CONTACT).

Submitting written comments: Please send us your written comments using one of the following methods:

• U.S. mail: Stephen P. Henry, Field Supervisor, Ventura Fish and Wildlife Office, U.S. Fish and Wildlife Service, 2493 Portola Road, Suite B, Ventura, CA 93003.

• Email: sbc-oilandgasgcp@fws.gov.

FOR FURTHER INFORMATION CONTACT: Rachel Henry, Fish and Wildlife Biologist, Ventura Fish and Wildlife Office (see ADDRESSES), by phone at 805-677-3312 or via the Federal Relay Service at 1-800-877-8339 for TTY assistance.

SUPPLEMENTARY INFORMATION: We, the U.S. Fish and Wildlife Service (Service), announce the availability of a draft General Conservation Plan (GCP), as well as the associated draft environmental assessment (EA), for oil and gas activities in Santa Barbara County. The GCP was developed by the Service in accordance with section 10(a)(2)(A) of the Endangered Species Act of 1973, as amended (ESA; 16 U.S.C. 1531 et seq.). The GCP meets the issuance criteria as required by section 10(a)(2)(B) of the ESA for issuance of a section 10(a)(1)(B) incidental take permit (ITP).

The Service developed the GCP to provide a streamlined mechanism for proponents engaged in oil and gas development, expansion, operations, maintenance, and decommissioning of infrastructure to meet statutory and regulatory requirements while promoting conservation of the Santa Barbara County distinct population segment (DPS) of the California tiger salamander (Ambystoma californiense), California red-legged frog (Rana draytonii), and Lompoc yerba santa (Eriodictyon capitatum). The GCP includes measures to mitigate and minimize impacts to the covered species. Permits issued under the GCP would authorize incidental take of the covered species for up to 20 years after the plan becomes effective. The Service prepared the draft EA in accordance with the National Environmental Policy Act of 1969 (NEPA; 42 U.S.C. 4321 et seq.) to evaluate the potential effects to the natural and human environment resulting from issuing permits under the GCP. We invite public comment on these documents.

Background

The Service listed the Santa Barbara County DPS of the California tiger salamander as endangered on September 21, 2000 (65 FR 57242); the Lompoc yerba santa as endangered on March 20, 2000 (65 FR 14888); and the California red-legged frog as threatened on May 23, 1996 (61 FR 25813).

Section 9 of the ESA and its implementing regulations prohibit the take of fish or wildlife species listed as endangered or threatened. The ESA defines “take” as to harass, harm, pursue, hunt, shoot, wound, kill, trap, capture, or collect, or to attempt to engage in any such conduct (16 U.S.C. 1532); however, under section 10(a)(1)(B) of the ESA, we may issue permits to authorize incidental take of listed species. Our regulations at 50 CFR 17.3 define “incidental taking” as take that is incidental to, and not the purpose of, carrying out of an otherwise lawful activity. Regulations governing incidental take permits for endangered and threatened species are in the Code of Federal Regulations (CFR) at 50 CFR 17.22 and 17.32, respectively. Under the ESA, protections for federally listed plants differ from the protections afforded to federally listed animals. Issuance of an incidental take permit also must not jeopardize the existence of federally listed fish, wildlife, or plant species. The permittees would receive assurances under our “No Surprises” regulations ((50 CFR 17.22(b)(5) and 17.32(b)(5)) regarding conservation activities for the Santa Barbara County DPS of the California tiger salamander, California red-legged frog, and Lompoc yerba santa.

Proposed Action

The proposed action is approval of the GCP that has been prepared by the Service in accordance with section 10(a)(2)(A) of the ESA to provide a more efficient and standardized mechanism for proponents engaged in commercial oil and gas development, expansion, operations, maintenance, and decommissioning of infrastructure on non-Federal lands. The GCP meets the permit issuance criteria as required by section 10(a)(2)(B) of the ESA and enables the establishment of a programmatic permitting and conservation process to address a defined suite of proposed activities over a defined planning area. The proposed GCP would allow private individuals, local and State agencies, and other non-Federal entities to meet the statutory and regulatory requirements of the ESA by applying for a permit and complying with the requirements of the GCP, including all applicable avoidance, minimization, and mitigation actions.

The draft EA provides the required NEPA documentation for the proposed Federal action (i.e., approval of a conservation plan and subsequent issuance of permits pursuant to section 10(a)(1)(B) of the ESA), providing information on the environmental baseline and a discussion of impacts to the human and natural environment that may occur as a result of implementation of the proposed GCP. Importantly, the scope of the EA is limited to the evaluation of the proposed GCP as a mechanism to standardize permit issuance for covered activities; this EA neither evaluates nor results in approval of oil and gas development projects or activities.

Alternatives

We are considering a no-action alternative to the proposed action in the EA. Under this alternative, the Service would not establish the proposed GCP as a standardized mechanism for compliance with section 10 of the ESA. Entities planning to conduct oil and gas activities involving potential impacts to the Santa Barbara County DPS of the California tiger salamander and California red-legged frog would continue to be required to obtain permits with associated project-specific HCPs.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the ESA (16 U.S.C. 1531 et seq.) and its implementing regulations (50 CFR 17.22 and 17.32) and NEPA (42 U.S.C. 4321 et seq.) and its implementing regulations (40 CFR 1506.6).

Stephen Henry,
Field Supervisor, Ventura Fish and Wildlife Office, Ventura, California.

[FR Doc. 2020-04562 Filed 3-5-20; 8:45 am]

BILLING CODE 4333-15-P